ENVIRONMENTAL PROTECTION AGENCY

40 CFR Parts 86, 87, 89, 90, 94, 98, 600, 1033, 1039, 1042, 1045, 1048, 1051, 1054, 1065

[EPA-HQ-OAR-2008-0508; FRL-8786-7]

RIN 2060-A079

Public Hearings for the Mandatory Reporting Rule for Greenhouse Gases

AGENCY: Environmental Protection Agency (EPA).

ACTION: Announcement of public hearings.

SUMMARY: The EPA is announcing two public hearings to be held for the proposed rule “Mandatory Reporting of Greenhouse Gases,” which will be published separately in the Federal Register. One hearing will be held in Arlington, Virginia (which is in the Washington, DC, area) on April 6 and 7, 2009. The other hearing will be held in Sacramento, California, on April 16, 2009.

In a separate notice of proposed rulemaking, EPA is proposing a regulation to require reporting of greenhouse gas emissions from all sectors of the economy. The rule would apply to fossil fuel suppliers and industrial gas suppliers, as well as to direct greenhouse gas emitters. The proposed rule does not require control of greenhouse gases, rather it requires only that sources above certain threshold levels monitor and report emissions. The signed notice of proposed rulemaking was posted on the EPA Web site prior to publication in the Federal Register, and contained the same public hearing dates presented in this announcement.

DATES: There will be two public hearings. One hearing will be held on April 6 and 7, 2009 in Arlington, VA. The other hearing will be on April 16, 2009 in Sacramento, CA. To obtain information about the public hearings or to register to speak at the hearings, please go to: http://www.epa.gov/climatechange/emissionsghgrulemaking.html. Alternatively, contact Carole Cook at 202-343-9263.

ADDRESSES: The hearings will be held at the following locations:

1. Arlington: One Potomac Yard, 2777 S. Crystal Drive, Arlington, VA 22202.

2. Sacramento: Sacramento Convention Center, 1400 J Street, Sacramento, CA 95814.

Written comments on the proposed rule may also be submitted to EPA electronically, by mail, by facsimile, or through hand delivery/courier. Please refer to the notice of proposed rulemaking for the addresses and detailed instructions for submitting written comments.

When the proposed rule is published in the Federal Register, a complete set of documents related to the proposal will be available for public inspection at the EPA Docket Center, located at 1301 Constitution Avenue, NW., Room 3334, Washington, DC between 8:30 a.m. and 4:30 p.m., Monday through Friday, excluding legal holidays. A reasonable fee may be charged for copying. Documents are also available through the electronic docket system at http://www.regulations.gov.

The EPA Web site for the rulemaking, which includes information about the public hearings and a copy of the signed proposal (which is essentially the same as the proposal that will be published) can be found at: http://www.epa.gov/climatechange/emissions/ghgrulemaking.html.

FOR FURTHER INFORMATION CONTACT: Carole Cook, Climate Change Division, Office of Atmospheric Programs (MC-6207J), Environmental Protection Agency, 1200 Pennsylvania Ave., NW., Washington, DC 20460; telephone number: (202) 343-9263; fax number: (202) 343-2342; e-mail address: GHGReportingRule@epa.gov.

SUPPLEMENTARY INFORMATION: The proposal for which EPA is holding the public hearings will be published separately in the Federal Register. A copy of the signed notice of proposed rulemaking, which is essentially the same as the proposal that will be published in the Federal Register, has been available since March 10, 2009, on the following Web site: http://www.epa.gov/climatechange/emissions/ghgrulemaking.html. The notice on the Web site contains the same public hearing dates, addresses, and registration information presented in this announcement of public hearings.

The public hearings will provide interested parties the opportunity to present data, views, or arguments concerning the proposed rules. The EPA may ask clarifying questions during the oral presentations, but will not respond to the presentations at that time. Written statements and supporting information submitted during the comment period will be considered with the same weight as any oral comments and supporting information presented at the public hearings. Written comments must be received by the last day of the comment period, as specified in the proposal of the mandatory greenhouse gas reporting rule.

The two public hearings will be held on April 6 and 7 in Arlington, VA, and on April 16, 2009, in Sacramento, CA. The public hearing in Arlington, VA, will begin each day at 9 a.m. and will end at 8 p.m. on April 6 and at 5 p.m. on April 7. The public hearing in Sacramento, CA, will begin at 9 a.m. and will end at 8 p.m. (local time).

To obtain information about the public hearings or to register to speak at the hearings, please go to: http://www.epa.gov/climatechange/emissions/ghgrulemaking.html. Alternatively, contact Carole Cook at 202-343-9263.

Verbatim transcripts of the hearings and written statements will be included in the rulemaking docket.

How Can I Get Copies of This Document, the Proposed Rule, and Other Related Information?

The EPA has established a docket for this action under Docket ID No. EPA-HQ-OAR-2008-0508. The EPA has also developed a Web site for the proposed greenhouse gas reporting rule, including the notice of proposed rulemaking, at the address given above. Please refer to the notice of proposed rulemaking for detailed information on accessing information related to the proposal.

Dated: March 19, 2009.
Brian McLean,
Director, Office of Atmospheric Programs.

[FR Doc. E9-6602 Filed 3-24-09; 8:45 am]

BILLING CODE 6560-50-P